DEPARTMENT OF JUSTICE

[OMB 1140-0060]

Agency Information Collection Activities; Proposed eCollection eComments Requested; Revision of a Previously Approved Collection; Firearms Disabilities for Nonimmigrant Aliens

AGENCY: Bureau of Alcohol, Tobacco, Firearms and Explosives, Department of Justice.

ACTION: 60-Day notice.

SUMMARY: The Department of Justice (DOJ), The Bureau of Alcohol, Tobacco, Firearms and Explosives (ATF), will be submitting the following information collection request to the Office of Management and Budget (OMB) for review and approval in accordance with the Paperwork Reduction Act of 1995.

DATES: Comments are encouraged and will be accepted for 60 days until December 2, 2024.

FOR FURTHER INFORMATION CONTACT: If you have additional comments especially on the estimated public burden or associated response time, suggestions, or need a copy of the proposed information collection instrument with instructions or additional information, contact: Lindsay Babbie, EPS/FED/FIPB, either by mail at Bureau of Alcohol, Tobacco, Firearms, and Explosives; 99 New York Ave. NE Mail Stop 6N-518; Washington DC, 20226, by email at Lindsay.Babbie@atf.gov, or telephone at 202-648-7252.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The nonimmigrant alien information will be used to determine if a nonimmigrant alien is eligible to obtain a federal firearms license and purchase, obtain, possess, or import a firearm. Nonimmigrant aliens also must maintain the documents while in possession of firearms or ammunition in the United States for verification purposes.

Overview of This Information Collection

1. Type of Information Collection: Revision of a previously approved collection.

2. The Title of the Form/Collection: Firearms Disabilities for Nonimmigrant Aliens.

3. The agency form number, if any, and the applicable component of the Department sponsoring the collection: Form number: None.

Component: Bureau of Alcohol, Tobacco, Firearms and Explosives, U.S. Department of Justice.

4. Affected public who will be asked or required to respond, as well as the obligation to respond: Affected Public: Individuals or households, Private Sector-for or not for profit institutions. As this is not a form, there is no obligation to respond.

5. An estimate of the total number of respondents and the amount of time estimated for an average respondent to respond: An estimated 2,531 respondents will respond to this collection, and it will take each respondent approximately 3 minutes and 59 seconds to complete their responses.

6. An estimate of the total annual burden (in hours) associated with the collection: The estimated annual public burden associated with this collection is 168 hours, which is equal to 2,531 (total respondents) * 1 (# of response per respondent) * .06637 (3 minutes and 59 seconds).

7. An estimate of the total annual cost burden associated with the collection, if applicable: $3,864.

Total Burden Hours
Activity | Number of respondents | Frequency | Total annual responses | Time per response | Total annual burden (hours)
Additional documents with 7/7CR | 22 | 1 | 22 | 0.0833 hours | 2 hours
Additional documents with 6/6NIA | 1,311 | 1 | 1,311 | 0.05 hours | 66 hours
Additional documents with 4474 | 1,198 | 1 | 1,198 | 0.0833 hours | 100 hours
Unduplicated totals | 2,531 | 1 | 2,531 | 3.59 sec (.06637) | 168

If additional information is required contact: Darwin Arceo, Department Clearance Officer, United States Department of Justice, Justice Management Division, Policy and Planning Staff, Two Constitution Square, 145 N Street NE, 4W-218, Washington, DC.

Dated: September 26, 2024.
Darwin Arceo,
Department Clearance Officer for PRA, U.S. Department of Justice.

[FR Doc. 2024-22552 Filed 10-1-24; 8:45 am]

BILLING CODE 4410-FY-P